ENVIRONMENTAL PROTECTION AGENCY

[ER-FRL-8584-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080164, ERP No. D-NRC-D06005-PA, GENERIC—License Renewal of Nuclear Plants, Supplement 35 to NUREG-1437, Regarding Susquehanna Steam Electric Station, Units 1 and 2, Issuing Nuclear Power Plant Operating Licenses for a 20-Year Period, PA.

Summary: EPA expressed environmental concerns about pollution prevention issues and impacts to historic and archaeological resources. Rating EC1.

EIS No. 20080171, ERP No. D-NOA-L91031-WA, Proposed Authorization of the Makah Indian Tribe's Request to Hunt Gray Whales in the Tribe's Usual and Accustomed Fishing Grounds off the Coast of Washington.

Summary: EPA does not object to the proposed project. Rating LO.

EIS No. 20080186, ERP No. D-FAA-K51044-NV, City of Mesquite, Proposed Replacement General Aviation Airport, Implementation, Clark County, NV.

Summary: EPA expressed environmental concerns about air toxics, aquatic resource, and biological/wildlife impacts as well as indirect impacts associated with the proposed replacement airport site and future non-aviation use of the existing site. EPA requested additional analysis and/or mitigation strategies for each resource area of concern. Rating EC2.

EIS No. 20080204, ERP No. D-APH-A82128-00, PROGRAMMATIC—Use of Genetically Engineered Fruit Fly and Pink Bollworm in APHIS Plant Pest Control Programs, Implementation.

Summary: EPA has no objection to the proposed action. Rating LO.

EIS No. 20080253, ERP No. D-NOA-E91024-00, Amendment 4 to the Spiny Lobster Fishery Management Plan of Puerto Rico and the U.S. Virgin Islands and Amendment 8 to the Spiny Lobster Fishery Management Plan of the Gulf of Mexico and South Atlantic, To Address the Harvest and Exportation of Undersized Lobster Tails to the United States.

Summary: EPA expressed environmental concerns about the no action alternative and believes that any of the proposed action alternatives would be more protective. Rating EC2.

EIS No. 20080195, ERP No. DS-FHW-E40804-TN, Interstate 69 Segment of Independent Utility (SIU) #8, New Information for a New Crossover Alternative, from TN-385 in Millington, TN to I-155/US 51 in Dyersburg, TN, Funding, Shelby, Tipton, Lauderdale and Dyer Counties, TN.

Summary: EPA continues to have environmental concerns about impacts to wetlands, rivers, streams, floodplains, and prime and unique farmland. EPA also has concerns about the selection of Alternative R as the preferred alternative. Rating EC2.

Final EISs

EIS No. 20080198, ERP No. F-IBR-K39075-CA, Fish Passage Improvement Project, Red Bluff Diversion Dam (RBDD), Improvements of Anadromous Fish Passage both Upstream and Downstream, Tehama-Colusa Canal, RBDD to south of the Town of Dunnigan and Corning Canal, RBDD to south of the City of Corning, Funding, U.S. Army COE Section 10 and 404 Permits Issuance, Tehama, Glenn, Colusa, Yolo Counties, CA.

Summary: EPA continues to have environmental concerns about water quality impacts, and potential impacts of climate change on the proposed action. We recommended the ROD include a commitment to post-project groundwater monitoring.

EIS No. 20080211, ERP No. F-FRA-K53012-CA, Bay Area to Central Valley High-Speed Train (HST) Project, Provide a Reliable High-Speed Electrified Train System to Link Bay Area Cities to the Central Valley, Sacramento, and South California.

Summary: EPA continues to have environmental concerns about the proposed project regarding land-use and growth-related impacts.

EIS No. 20080231, ERP No. F-FRC-L03013-00, Bradwood Landing Project, Liquefied Natural Gas Import Terminal and Natural Gas Pipeline Facilities, Construction and Operation, U.S. Army COE Section 10 and 404 Permits, Clatsop County, OR and Cowlitz County, WA.

Summary: EPA continues to express environmental concerns about impacts to wetlands and air quality.

EIS No. 20080244, ERP No. F-FAA-E51052-FL, Fort Lauderdale-Hollywood International Airport, Proposed Development and Extension of Runway 9R/27L and other Associated Airport Projects, Funding, U.S. Army COE Section 404 Permit and NPDES Permit, Fort Lauderdale, Broward County, FL.

Summary: EPA continues to have environmental concerns about aircraft noise exposures to residents. Noise mitigation plan specifics and commitments were deferred to the FAA ROD.

EIS No. 20080277, ERP No. F-SFW-G64013-TX, Texas Chenier Plain National Wildlife Refuge Complex, Development of a 15-Year Management Plan (Comprehensive Conservation Plan) for Refuge Complex, and Expansion of the Approval Land Acquisition Boundaries (Land Protection Plan) for the Four Refuges: Moody, Anahuac, McFaddin and Texas Point National Wildlife Refuges, Chambers, Jefferson and Galveston Counties, TX.

Summary: No formal comment letter was sent to the preparing agency.

EIS No. 20080249, ERP No. FS-BLM-J02038-WY, Pinedale Anticline Oil and Gas Exploration and Development Project, Additional Information on Two New Alternatives, Consolidated Development with Year-Round Development (Construction, Drilling, Completion, and Production), Sublette County, WY.

Summary: EPA continues to have environmental concerns about groundwater, ozone, and visibility impacts.

Dated: August 12, 2008.
Ken Mittelholtz,
Environmental Protection Specialist, Office of Federal Activities.

[FR Doc. E8-18973 Filed 8-14-08; 8:45 am]

BILLING CODE 6560-50-P